ENVIRONMENTAL PROTECTION AGENCY

[FRL-8541-2]

Public Water System Supervision Program Variance and Exemption Review for the State of North Dakota

AGENCY: Environmental Protection Agency.

ACTION: Notice.

SUMMARY: The Environmental Protection Agency (EPA) Region 8 will conduct a statutory review of variances and exemptions issued by the State of North Dakota under the Safe Drinking Water Act (SDWA) Public Water System Supervision (PWSS) program. The SDWA, 42 U.S.C. 300 et seq., requires that EPA periodically review variances and exemptions issued by States with primary enforcement authority to determine compliance with requirements of the Statute 42 U.S.C. 300g-4(e)(8); 42 U.S.C. 300g-5(d). In accordance with these provisions in the SDWA, and its regulations at 40 CFR 142.22, EPA is giving public notice that EPA Region 8 will conduct a review of variances and exemptions issued by the State of North Dakota to Public Water Systems under its jurisdiction. The review will be conducted on March 31, 2008.

The public is invited to submit comments by April 28, 2008 on any or all variances and/or exemptions issued by the State of North Dakota, and on the need for continuing them. Results of this review will be published in the Federal Register.

ADDRESSES: Comments on variances and exemptions issued by the State of North Dakota should be addressed to: Robert E. Roberts, Regional Administrator, c/o Breann Bockstahler, U.S. EPA, Region 8, 1595 Wynkoop Street, Denver, CO 80202-2466. All data and other information with respect to the variances and exemptions issued by the State of North Dakota are located at the North Dakota Department of Health, Division of Municipal Facilities, 918 East Divide, Bismarck, North Dakota 58501-1947.

FOR FURTHER INFORMATION CONTACT: Breann Bockstahler at 303-312-6034 or bockstahler.breann@epa.gov.

SUPPLEMENTARY INFORMATION: North Dakota has an EPA approved program for primary enforcement authority for the PWSS program, pursuant to section 1413 of the Safe Drinking Water Act (SDWA), 42 U.S.C. 300g-2 and 40 CFR Part 142.

A. Why Do States Issue Variances and Exemptions?

States with primary enforcement authority are authorized to grant variances and exemptions from National Primary Drinking Water Regulations to specific public water systems, provided these variances and exemptions meet the requirements of the SWDA Section 1415 and 1416 and are protective of public health.

B. Why Is a Review of the Variances and Exemption Necessary?

North Dakota is authorized to grant variances and exemptions to drinking water systems in accordance with the SDWA. The SDWA requires that EPA periodically review State issued variances and exemptions to determine compliance with the Statute. 42 U.S.C. 300g-4(e)(8); 42 U.S.C. 300g-5(d).

Dated: February 26, 2008.
Robert E. Roberts,
Regional Administrator, Region 8.

[FR Doc. E8-4907 Filed 3-11-08; 8:45 am]

BILLING CODE 6560-50-P